DEPARTMENT OF THE INTERIOR

National Park Service

[NPS-WASO-NAGPRA-NPS0037227; PPWOCRADN0-PCU00RP14.R50000]

Notice of Inventory Completion: U.S. Department of the Interior, National Park Service, Amistad National Recreation Area, Del Rio, TX

AGENCY: National Park Service, Interior.

ACTION: Notice.

SUMMARY: In accordance with the Native American Graves Protection and Repatriation Act (NAGPRA), the U.S. Department of the Interior, National Park Service, Amistad National Recreation Area (AMIS) has completed an inventory of human remains and associated funerary objects and has determined that there is no cultural affiliation between the human remains and associated funerary objects and any Indian Tribe. The human remains and associated funerary objects were removed from Val Verde County, TX.

DATES: Disposition of the human remains and associated funerary objects in this notice may occur on or after February 12, 2024.

ADDRESSES: Christopher Ryan, Superintendent, Amistad National Recreation Area, 10477 Hwy. 90 West, Del Rio, TX 78840, telephone (830) 775-7491, email chris_ryan@nps.gov.

SUPPLEMENTARY INFORMATION: This notice is published as part of the National Park Service's administrative responsibilities under NAGPRA. The determinations in this notice are the sole responsibility of the superintendent, AMIS. Additional information on the determinations in this notice, including the results of consultation, can be found in the inventory or related records held by AMIS.

Description

Most human remains and associated funerary objects in the collections of Amistad National Recreation Area were removed by the NPS-sponsored Texas Archeological Salvage Project (TASP) salvage excavations carried out by the University of Texas at Austin in 1958-1968, during the planning and construction of the Amistad Reservoir in Val Verde County, Texas. Later, after Amistad National Recreation Area was established to manage the federal lands surrounding the completed reservoir, some additional human remains were removed by NPS personnel.

In 1958, human remains representing, at minimum, five individuals were removed from the Damp Cave site in Val Verde County, TX. The site, a small rockshelter, was located by the Texas Archaeological Salvage Project and excavated by the University of Texas. No associated funerary objects are present.

In 1958, human remains representing, at minimum, two individuals were removed from the Centipede Cave site in Val Verde County, TX. The site, an intermediate-sized rockshelter, was located by the Texas Archaeological Salvage Project and excavated by the University of Texas. No associated funerary objects are present.

In 1959, human remains representing, at minimum, one individual were removed from the Devils Mouth site in Val Verde County, TX during a reservoir survey by the University of Texas. No associated funerary objects are present.

In 1962, human remains representing, at minimum, 14 individuals were removed from the Coontail Spin site in Val Verde County, TX. The site, a large rockshelter, was located in 1958 by the University of Texas and tested in 1962 by the Texas Archaeological Salvage Project. The 47 associated funerary objects are four manos, one soil sample, one metate, two dart points, 29 pieces of matting and fragments, one non-human vertebra (possibly bear or cow), one other faunal bone, and eight wooden stakes.

In 1988, human remains representing, at minimum, one more individual were removed from the Coontail Spin site during salvage excavations by NPS staff. There were no associated funerary objects.

In 1963, human remains representing, at minimum, two individuals were removed from the Mosquito Cave site in Val Verde County, TX, by the Texas Archaeological Salvage Project. No associated funerary objects are present.

In 1963, human remains representing, at minimum, one individual were removed from the Eagle Cave site, in Val Verde County, TX. No associated funerary objects are present.

In 1965, human remains representing, at minimum, one individual were removed from site 41VV88 in Val Verde County, TX. The site, a small rockshelter, was located in 1958 by the University of Texas and excavated in 1965. The one associated funerary object is one lot of perishable objects including cordage and possible “fur cordage” (robe fragments?).

In 1965, human remains representing, at minimum, 10 individuals were removed from the Perpetual Care Shelter site in Val Verde County, TX. No associated funerary objects are present.

Between 1965 and 1968, human remains representing, at minimum, six individuals were removed from the Conejo Shelter site in Val Verde County, TX by the University of Texas. The 241 associated funerary objects are three metates/grinding slabs; two Sophora segundiflora fragments; four prickly pear cactus Opuntia sp. fragments; six bags of unidentified vegetal material; one bundle of tied grass; one fiber object of miscellaneous leaves, twigs, and fibers with cordage; three lots of fur objects (rabbit fur robe fragments, or bags of robe fragments); one fiber tied with cordage; one grass bundle with rabbit fur robe remnants; one bracelet; one basket/basket fragments; one piece of red ochre; one unifacial tool; one bifacial tool; four pieces of modified bone (including one antler tine); 19 pieces of bone (one burned bone fragment, one an antler fragment, and 17 mammal bones); one piece of leather; 116 pieces of sinew; 51 pieces of cordage (including one coiled); 19 mat fragments; three sandals; and one chipped stone flake.

Between 1965 and 1968, human remains representing, at minimum, two individuals were removed from the Arenosa Shelter site in Val Verde County, TX. No associated funerary objects are present.

In 1967, human remains representing, at minimum, five individuals were removed from the Parida Cave site in Val Verde County, TX. The site was documented by the University of Texas in 1958 and excavated in 1967. No associated funerary objects are present.

In 1967, human remains representing, at minimum, two individuals were removed from the Perry Calk site in Val Verde County, TX. The site, which consists of an intermediate size rockshelter and an adjacent horizontal shaft cave, was located in 1958 by the University of Texas. Excavations were conducted in 1967 by the Texas Archaeological Salvage Project. The one associated funerary object is a small rabbit fur robe.

In 1967, human remains representing, at minimum, four individuals were removed from the Rio Grande Canyon site in Val Verde County, TX. The site was located during a 1958 survey by the University of Texas, and later excavated by the Texas Archaeological Salvage Project. No associated funerary objects are present.

In 1967, human remains representing, at minimum, two individuals were removed from the Techo Bajo Shelter site in Val Verde County, TX. The site is a small rockshelter. The four associated funerary objects are one awl made from a Canis sp. ulna, and three modified bone fragments.

In 1977 and 1989, human remains representing, at minimum three individuals were removed from the Four Turtle Cave site in Val Verde County, TX. Wave action exposed human remains in 1977, which were then removed by NPS personnel. A second set of human remains were removed in 1989. Thirty-nine associated funerary objects include pebbles, quartz crystals, seeds, rabbit bone, snail shell fossil, wood, burned wood, rabbit fur, and chipped stone.

Around 1978, human remains representing, at minimum, one individual were removed from the Keyhole Cave site in Val Verde County, TX. Fishermen found the human remains eroding out of the cave as a result of wave action. Sixteen associated funerary objects include stakes, mussel shell, a burnt wood fragment, burned pecan shell, and faunal remains (peccary).

In 1979, human remains representing, at minimum, two individuals were removed from site 41VV962 in Val Verde County, TX. The human remains had been exposed by wave action and were removed by NPS personnel. No associated funerary objects are present.

In 1983, human remains representing, at minimum, one individual were removed from the Sin Piernas Cave site in Val Verde County, TX by NPS personnel. Wave action exposed the human remains, which appear to have been interred in a flexed position. The one associated funerary object is a hammerstone.

In 1988, human remains representing, at minimum, one individual were removed from the Dust Mask Shelter site in Val Verde County, TX, by NPS personnel. No associated funerary objects are present.

Aboriginal Land

The human remains and associated funerary objects in this notice were removed from known geographic locations. These locations are the aboriginal lands of one or more Indian Tribes. The following information was used to identify the aboriginal land: treaties.

Determinations

Pursuant to NAGPRA and its implementing regulations, and after consultation with the appropriate Indian Tribes, AMIS has determined that:

• The human remains described in this notice represent the physical remains of 66 individuals of Native American ancestry.

• The 350 associated funerary objects described in this notice are reasonably believed to have been placed with or near individual human remains at the time of death or later as part of the death rite or ceremony. The National Park Service intends to convey the associated funerary objects to the tribes pursuant to 54 U.S.C. 102503(g) through (i) and 54 U.S.C. 102504.

• No relationship of shared group identity can be reasonably traced between the human remains and associated funerary objects and any Indian Tribe.

• The human remains and associated funerary objects described in this notice were removed from the aboriginal land of the Apache Tribe of Oklahoma; Comanche Nation, Oklahoma; Fort Sill Apache Tribe of Oklahoma; Jicarilla Apache Nation, New Mexico; Kiowa Indian Tribe of Oklahoma; Mescalero Apache Tribe of the Mescalero Reservation, New Mexico; and the White Mountain Apache Tribe of the Fort Apache Reservation, Arizona.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after February 12, 2024. If competing requests for disposition are received, AMIS must determine the most appropriate requestor prior to disposition. Requests for joint disposition of the human remains and associated funerary objects are considered a single request and not competing requests. AMIS is responsible for sending a copy of this notice to the Indian Tribes identified in this notice.

Authority: Native American Graves Protection and Repatriation Act, 25 U.S.C. 3003, and the implementing regulations, 43 CFR 10.9 and § 10.11.

Dated: January 5, 2024.
Melanie O'Brien,
Manager, National NAGPRA Program.

[FR Doc. 2024-00524 Filed 1-11-24; 8:45 am]

BILLING CODE 4312-52-P